Title 3—

The President

Executive Order 13210 of May 2, 2001

President's Commission To Strengthen Social Security

By the authority vested in me as President by the Constitution and the laws of the United States of America, including the Federal Advisory Committee Act, as amended (5 U.S.C. App.), and to preserve Social Security for senior Americans while building wealth for younger Americans, it is hereby ordered as follows:

Section 1. Establishment. There is established the President's Commission to Strengthen Social Security (Commission).

Sec. 2. Membership. The Commission shall be composed of sixteen members appointed by the President, of which no more than eight shall be members of the same political party. The President shall also designate two members of the Commission to act as co-chairs. The two co-chairs shall not be members of the same political party.

Sec. 3. Mission. The mission of the Commission shall be to submit to the President bipartisan recommendations to modernize and restore fiscal soundness to the Social Security system according to the following principles: (a) Modernization must not change Social Security benefits for retirees or near-retirees;

(b) The entire Social Security surplus must be dedicated to Social Security only;

(c) Social Security payroll taxes must not be increased;

(d) Government must not invest Social Security funds in the stock market;

(e) Modernization must preserve Social Security's disability and survivors components; and

(f) Modernization must include individually controlled, voluntary personal retirement accounts, which will augment the Social Security safety net.

Sec. 4. Administration. (a) The Social Security Administration shall, to the extent permitted by law, provide administrative support and funding for the Commission.

(b) Members of the Commission shall serve without any compensation for their work on the Commission. Members appointed from among private citizens of the United States, however, while engaged in the work of the Commission, may be allowed travel expenses, including per diem in lieu of subsistence, as authorized by law for persons serving intermittently in Government service (5 U.S.C. 5701-5707), to the extent funds are available.

(c) The Commission shall have a staff headed by an Executive Director, who shall be selected by the President. To the extent permitted by law, office space, analytical support, and additional staff support for the Commission shall be provided by executive branch departments and agencies as directed by the President.

(d) The Commission shall receive input from and provide briefings to the Congress, by procedures determined by the President in consultation with the congressional leadership and the Commission. Public hearings shall be held at the call of the co-chairs, in consultation with the President.

(e) The functions of the President under the Federal Advisory Committee Act, as amended, except for those in section 6 of that Act, that are applicable to the Commission, shall be performed by the Social Security Administration, in accordance with the guidelines that have been issued by the Administrator of General Services.

Sec. 5. Reports. The Commission shall submit reports to the President as follows: (a) Interim Report. An interim report shall describe the challenges facing the Social Security system and the criteria by which the Commission will evaluate reform proposals. These criteria may include but are not limited to: solvency, sustainability, benefit adequacy, fair treatment across generations and demographic groups, total annual cost obligations, net impact on the Federal budget, impact upon national savings, impact on workforce participation, impact on employer-provided pension plans, rates of return, and protections against poverty.

(b) Final Report. The final report will set forth the Commission's recommendations, in accordance with its stated mission in section 3 of this order, regarding how to strengthen Social Security with personal accounts. The Commission shall submit its final report during the fall of 2001. The submission date shall be determined by the co-chairs in consultation with the President.

Sec. 6. Termination. The Commission shall terminate 30 days after submitting its final report.

B

THE WHITE HOUSE,

May 2, 2001.

[FR Doc. 01-11505

Filed 5-3-01; 10:58 am]

Billing code 3195-01-P